DEPARTMENT OF COMMERCE

National Oceanic and Atmospheric Administration

Availability of Seats for the Northwestern Hawaiian Islands Coral Reef Ecosystem Reserve Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the Northwestern Hawaiian Islands Coral Reef Ecosystem Reserve Advisory Council: Native Hawaiian Representative, Ocean Related Tourism Representative, Conservation Alternate, Native Hawaiian (Elder) Alternate, and two Native Hawaiian Alternates. Applicants are chosen based upon their particular expertise and experience in relation to the seat for which they are applying; community and professional affiliations; and philosophy regarding the protection and management of marine and cultural resources. Applicants who are chosen as members should expect to serve 2 year terms, pursuant to the council's charter, or until a Monument Alliance is formed in compliance with the Federal Advisory Council Act (FACA).

DATES: Applications are due by April 30, 2012.

ADDRESSES: Application kits may be obtained from Wesley Byers, Reserve Advisory Council Coordinator, Office of National Marine Sanctuaries, Pacific Island Region, 6600 Kalaniana'ole Hwy, #300, Honolulu, HI 96825, and at the following link: www.papahanaumokuakea.gov. Completed applications should be sent to the same address.

FOR FURTHER INFORMATION CONTACT: Wesley Byers, Reserve Advisory Council Coordinator, Office of National Marine Sanctuaries, Pacific Island Region, 6600 Kalaniana'ole Hwy, #300, Honolulu, HI 96825 Phone: 808-694-3920, wesley.byers@noaa.gov.

SUPPLEMENTARY INFORMATION: The NWHI Coral Reef Ecosystem Reserve is a marine protected area designed to conserve and protect the coral reef ecosystem and related natural and cultural resources of the area. The NWHI Reserve was established by Executive Order 13178 (12/00) and Executive Order 13196 (1/01) pursuant to the National Marine Sanctuaries Amendments Act of 2000 (Pub. L.106-513). The Reserve was incorporated into Papahanaumokuakea Marine National Monument when the Monument was established in 2006 and is now also part of the Papahanaumokuakea Marine National Monument World Heritage site established by UNESCO in July, 2010.

The Reserve encompasses an area of the marine waters and submerged lands of the Northwestern Hawaiian Islands, extending approximately 1200 nautical miles long and 100 nautical miles wide. The Reserve is managed by the Secretary of Commerce pursuant to the National Marine Sanctuaries Act and the Executive Orders. The management principles and implementation strategy and requirements for the Reserve are found in the enabling Executive Orders, which are part of the application kit, and can be found on the Monument's Web site www.papahanaumokuakea.gov.

In designating the Reserve, the Secretary of Commerce was directed to establish a Coral Reef Ecosystem Reserve Advisory Council, pursuant to section 315 of the National Marine Sanctuaries Act, to provide advice and recommendations on the management of the natural and cultural resources within the Reserve.

The Office of National Marine Sanctuaries has established the Reserve Advisory Council and is now accepting applications from interested individuals for Representatives and/or Alternates for each of the following citizen/constituent positions on the Council:

1. One (1) Native Hawaiian Representatives (Native Hawaiian).

2. One (1) Ocean-Related Tourism Representative (Ocean-Related Tourism).

3. One (1) Native Hawaiian (Elder) Alternate (Native Hawaiian)

3. Two (2) Native Hawaiian Alternates (Native Hawaiian).

4. One (1) Conservation Alternate (Conservation).

Current Reserve Council Representatives and Alternates may reapply for these vacant seats.

The Council consists of 25 members, 15 of which are non-government voting members (the State of Hawai'i representative is a voting member) and 10 of which are government non-voting members. The voting members are representatives of the following constituencies: Conservation (2), Citizen-At-Large, Ocean-Related Tourism, Recreational Fishing, Research (3), Commercial Fishing, Education, State of Hawai'i and Native Hawaiian (3). The government non-voting seats are represented by the following agencies: Department of Defense, Department of the Interior, Department of State, Marine Mammal Commission, NOAA's Hawaiian Islands Humpback Whale National Marine Sanctuary, NOAA's National Marine Fisheries Service, National Science Foundation, U.S. Coast Guard, Western Pacific Regional Fishery Management Council, and NOAA's Papahanaumokuakea Marine National Monument.

Authority: 16 U.S.C. Sections 1431, et seq.

(Federal Domestic Assistance Catalog Number 11.429 Marine Sanctuary Program)

Dated: March 8, 2012.
Daniel J. Basta,
Director, Office of National Marine Sanctuaries, National Ocean Service, National Oceanic and Atmospheric Administration.

[FR Doc. 2012-6538 Filed 3-19-12; 8:45 am]

BILLING CODE 3510-NK-P